NUCLEAR REGULATORY COMMISSION

[Docket No. 50-293; License No. DPR-35; NRC-2012-0186]

Entergy Nuclear Operations, Inc.; Pilgrim Nuclear Power Station Receipt of Request for Action

Notice is hereby given that by petition dated July 19, 2010, as supplemented by letter dated August 6, 2010, Ms. Mary Lampert (the Petitioner) has requested that pursuant to Title 10 of the Code of Federal Regulations (10 CFR) 2.206, “Requests for Action under this Subpart,” the U.S. Nuclear Regulatory Commission (NRC or the Commission) take action with regard to the Pilgrim Nuclear Power Station (Pilgrim). The Petitioner requested that the NRC take the following actions: (1) Issue a Demand for Information Order requiring that Entergy Nuclear Operations, Inc. (Entergy or the licensee) demonstrate that all inaccessible cables at Pilgrim are capable of performing their required function, be it safety- or nonsafety-related, (2) certify that the location, age, and repair history of all cables (accessible and inaccessible) have been identified, (3) ensure that the licensee monitors all cables before continued operation to demonstrate that the cables can perform their design functions, (4) ensure that the licensee incorporates in its monitoring program, at a minimum, recommendations for certain aging management guidelines and NRC generic guidance, (5) commit to verifying, during the license renewal period, Entergy's implementation through routine baseline inspections, and (6) commit to a timely upgrade of the regulatory guidance for maintaining cable qualification and the verification that the cables can perform their design functions.

The NRC's Petition Review Board initially met on November 4, 2010, and later reconvened on June 4, 2012, considered the petition, including all supplemental information provided as previously described, and made a final recommendation to accept the petition for review, in part. The following specific issues and concerns identified in the July 19, 2010, petition and/or supplemented during the teleconferences meet the criteria for review under 10 CFR 2.206, and are being accepted for review:

(1) NRC regulations require that plant owners ensure that electrical wiring is qualified to perform in the environmental conditions experienced during normal operation and during accidents. Pilgrim has no program today as required by NRC regulations to ensure operability of the submerged and/or wetted wires.

(2) Most electrical cables at Pilgrim have been exposed to significant moisture over the past 40 years since initial construction. The wires and possibly the connections and splices inside conduits are designed to operate properly only in a dry environment and not designed to operate in a moist or wet environment; thus, there is no assurance that they will not fail if wet or submerged or previously exposed to moisture.

(3) Wires degrade with age, and the oldest wires are the most susceptible to degradation. Pilgrim is one of the oldest operating commercial reactors in the country, and the majority of the conduits and wires at Pilgrim were installed during the initial construction. There are no existing methods to ensure operability, short of visual inspection and/or replacement with cables designed to operate in a wet or submerged environment.

(4) As identified in several pertinent sections of Pilgrim's license renewal application and the safety evaluation report, Pilgrim's aging management program, for the period 2012-2032, is insufficient and does not provide the public with reasonable assurance.

The NRC is treating the request under 10 CFR 2.206 of the Commission's regulations. The request has been referred to the Director of the Office of Nuclear Reactor Regulation. As provided by 10 CFR 2.206, the NRC will take appropriate action on this petition within a reasonable time.

A copy of the petition is available to the public from the NRC's Agencywide Documents Access and Management System (ADAMS) in the public Electronic Reading Room on the NRC Web site at http://www.nrc.gov/reading-rm/adams.html under ADAMS Accession No. ML102020275, and are available for inspection at the Commission's Public Document Room, located at One White Flint North, 11555 Rockville Pike (first floor), Rockville, Maryland.

For the Nuclear Regulatory Commission.
Dated at Rockville, Maryland, this 2nd day of August 2012.
Eric J. Leeds,
Director, Office of Nuclear Reactor Regulation.

[FR Doc. 2012-19537 Filed 8-8-12; 8:45 am]

BILLING CODE 7590-01-P